DEPARTMENT OF LABOR

Office of the Secretary

Submission for OMB Review; Comment Request

August 16, 2000.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Type of Review: Extension of a currently approved collection.

Agency: Pension and Welfare Benefits Administration.

Title: Application for EFAST Electronic Signature and Codes for EFAST Transmitters and Software Developers.

OMB Number: 1210-0117.

Affected Public: Individuals or households; Business or other for-profit; Not-for-profit institutions.

Frequency of Response: On occasion.

Total Respondents: 240,250.

Total Responses: 240,250.

Estimated Time Per Response: 20 minutes.

Total Estimated Burden Hours: 80,083.

Total Annualized Capital/Startup Costs: $0.

Total Annual Cost (Operating and Maintenance): $91,000.

Description: On February 2, 2000, the Department of Labor, Pension and Welfare Benefits Administration, the Department of the Treasury, Internal Revenue Service, and the Pension Benefit Guaranty Corporation announced the new computer scannable “hand print” and “machine print” formats for the revised Form 5500 Series. Using scannable forms and electronic filing technologies under the ERISA Filing and Acceptance System—EFAST, the revised Form 5500 Series was designed to simplify and expedite processing of returns/reports concerning the financial conditions and operations of certain employee benefit plans and fringe benefit plans.

In order to participate in the electronic filing program, applicants are required to submit an Application for EFAST Electronic Signature and Codes for EFAST Transmitters and Software Developers (Form EFAST-1), the subject of this ICR. Applicants who may file the Form EFAST-1 include: (1) individuals applying for an electronic signature to sign a Form 5500 or 5500-EZ; (2) transmitters applying for codes; and (3) software developers applying for codes. The information provided by Form EFAST-1 applicants, combined with the codes supplied to the applicants by EFAST, allows EFAST to verify a filer, transmitter, of software developer's standing as a qualified participant in the electronic filing program. EFAST-1 information also established a means of contact between the program and the applicant.

Ira L. Mills,
Departmental Clearance Officer.

[FR Doc. 00-21626 Filed 8-23-00; 8:45 am]

BILLING CODE 4510-29-M